DEPARTMENT OF ENERGY

Federal Energy Regulatory Commission

[Docket No. RP02-551-002]

Dominion Transmission, Inc.; Notice of Compliance Filing

December 10, 2003.

Take notice that on November 26, 2003, Dominion Transmission, Inc. (DTI) tendered for filing as part of its FERC Gas Tariff, Third Revised Volume No. 1, the following tariff sheets, with an effective date of November 1, 2003:

Ninth Revised Sheet No. 39

Original Sheet No. 1503

Sheet Nos. 1504-1999

DTI states that the purpose of this filing is to comply with the Commission's October 27 Order in Docket No. RP02-551-001.

Any person desiring to protest said filing should file a protest with the Federal Energy Regulatory Commission, 888 First Street, NE., Washington, DC 20426, in accordance with § 385.211 of the Commission's Rules and Regulations. All such protests must be filed in accordance with § 154.210 of the Commission's Regulations. Protests will be considered by the Commission in determining the appropriate action to be taken, but will not serve to make protestants parties to the proceedings. This filing is available for review at the Commission in the Public Reference Room or may be viewed on the Commission's Web site at http://www.ferc.gov using the eLibrary link. Enter the docket number excluding the last three digits in the docket number field to access the document. For assistance, please contact FERC Online Support at FERCOnlineSupport@ferc.gov or toll-free at (866) 208-3676, or TTY, contact (202) 502-8659. The Commission strongly encourages electronic filings. See, 18 CFR 385.2001(a)(1)(iii) and the instructions on the Commission's Web site under the e-Filing link.

Magalie R. Salas,
Secretary.

[FR Doc. E3-00578 Filed 12-16-03; 8:45 am]

BILLING CODE 6717-01-P